DEPARTMENT OF TRANSPORTATION

Maritime Administration

[Docket No. MARAD 2009 0048]

Notice of Ship Disposal: SS Pioneer Commander

The Maritime Administration plans to dispose of the obsolete vessel SS Pioneer Commander, which is currently located at its Beaumont Reserve Fleet in Beaumont, Texas. The Maritime Administration, in consultation with the Texas Historical Commission, determined that the vessel is eligible for listing on the National Register of Historic Places due to its role in a pivotal moment in U.S. history; the evacuation of more than 44,000 Americans, Vietnamese military and refugees from South Vietnam in 1975. This operation signaled the close of America's long involvement in Vietnam.

The National Defense Authorization Act for Fiscal Year 2004, Section 3512 of Public Law 108-136, authorizes the Maritime Administration to afford qualified public and non-profit organizations the opportunity to obtain, via donation, obsolete ships from the National Defense Reserve Fleet (NDRF) for use as memorials and/or in other non-commercial enterprises.

The Maritime Administration will accept completed donation applications for the SS Pioneer Commander from qualified organizations in accordance with the Ship Donation Program Requirements for a period of 45 days beginning June 1, 2009. For more information visit the Marad Ship Donation Program at http://www.marad.dot.gov or contact Mr. Kevin Smith at 202-366-3798 or via e-mail at kevin.r.smith@dot.gov.

Dated: May 18, 2009.
By Order of the Maritime Administrator.
Christine Gurland,
Acting Secretary, Maritime Administration.

[FR Doc. E9-12616 Filed 5-29-09; 8:45 am]

BILLING CODE P